SUSQUEHANNA RIVER BASIN COMMISSION

Projects Approved for Consumptive Uses of Water

AGENCY: Susquehanna River Basin Commission.

ACTION: Notice.

SUMMARY: This notice lists the projects approved by rule by the Susquehanna River Basin Commission during the period set forth in DATES.

DATES: December 1-31, 2019

ADDRESSES: Susquehanna River Basin Commission, 4423 North Front Street, Harrisburg, PA 17110-1788.

FOR FURTHER INFORMATION CONTACT: Jason E. Oyler, General Counsel and Secretary to the Commission, telephone: (717) 238-0423, ext. 1312; fax: (717) 238-2436; email: joyler@srbc.net. Regular mail inquiries May be sent to the above address.

SUPPLEMENTARY INFORMATION: This notice lists the projects, described below, receiving approval for the consumptive use of water pursuant to the Commission's approval by rule process set forth in 18 CFR 806.22 (f)(13) and 18 CFR 806.22 (f) for the time period specified above:

Water Source Approval—Issued Under 18 CFR 806.22(f)

1. Repsol Oil & Gas USA, LLC; Pad ID: Wilcox #1; ABR-20090803.R2; Covington Township, Tioga County, Pa.; Consumptive Use of Up to 0.9999 mgd; Approval Date: December 9, 2019.

2. Repsol Oil & Gas USA, LLC; Pad ID: KLEIN (01 014) R; ABR-20090810.R2; Armenia Township, Bradford County, Pa.; Consumptive Use of Up to 3.0000 mgd; Approval Date: December 9, 2019.

3. Seneca Resources Company, LLC; Pad ID: B09-I; ABR-201912001; Shippen Township, Cameron County, Pa.; Consumptive Use of Up to 4.0000 mgd; Approval Date: December 10, 2019.

4. Chief Oil & Gas, LLC; Pad ID: Polovitch Unit #1H; ABR-20090826.R2; Nicholson Township, Wyoming County, Pa.; Consumptive Use of Up to 5.0000 mgd; Approval Date: December 20, 2019.

5. Range Resources—Appalachia, LLC; Pad ID: Roup 1H-2H; ABR-201407018.R1; Mifflin Township, Lycoming County, Pa.; Consumptive Use of Up to 2.0000 mgd; Approval Date: December 20, 2019.

6. Chesapeake Appalachia, L.L.C.; Pad ID: Doss; ABR-20091109.R2; Albany Township, Bradford County, Pa.; Consumptive Use of Up to 7.5000 mgd; Approval Date: December 23, 2019.

7. Chesapeake Appalachia, L.L.C.; Pad ID: CSI; ABR-20091112.R2; Burlington Township, Bradford County, Pa.; Consumptive Use of Up to 7.5000 mgd; Approval Date: December 23, 2019.

8. Chief Oil & Gas, LLC; Pad ID: Kuziak B Drilling Pad; ABR-201409004.R1; Elkland Township, Sullivan County, Pa.; Consumptive Use of Up to 2.5000 mgd; Approval Date: December 23, 2019.

9. Cabot Oil & Gas Corporation; Pad ID: WeissM P1; ABR-201407003.R1; Gibson Township, Susquehanna County, Pa.; Consumptive Use of Up to 5.0000 mgd; Approval Date: December 31, 2019.

10. SWN Production Company, LLC; Pad ID: Greenzweig (GU C Pad); ABR-201407004.R1; Herrick Township, Bradford County, Pa.; Consumptive Use of Up to 4.9990 mgd; Approval Date: December 31, 2019.

11. SWN Production Company, LLC; Pad ID: NR-20-COLWELL-PAD; ABR-201407010.R1; Oakland Township, Susquehanna County, Pa.; Consumptive Use of Up to 4.9990 mgd; Approval Date: December 31, 2019.

(Authority: Pub. L. 91-575, 84 Stat. 1509 et seq., 18 CFR parts 806, 807, and 808)

Dated: March 16, 2020.
Jason E. Oyler,
General Counsel and Secretary to the Commission.

[FR Doc. 2020-05875 Filed 3-19-20; 8:45 am]

BILLING CODE 7040-01-P